Title 3—

The President

Proclamation

Greek Independence Day: a National Day of Celebration of Greek And American Democracy, 2010

By the President of the United States of America

A Proclamation

Today, as we commemorate the 189th anniversary of Greece’s independence, we reaffirm the ties that link our nations together as allies and warm friends. We also honor the accomplishments of Greek Americans and their immeasurable contributions to the United States.

It was the genius of America’s forebears to enshrine the pre-eminent idea of democracy in our Nation’s founding documents. Inspired by the governing values of ancient Greece, they launched the great American experiment. Thomas Jefferson, the principal author of our Declaration of Independence, later expressed his admiration for the Greeks and their heritage as they fought their War of Independence. Writing in 1823, he acknowledged Greece as “the first of civilized nations, [which] presented examples of what man should be.”

The Hellenic influence on America’s scholarly traditions reflects our Nation’s high regard for Greece’s lasting heritage. Our physicians uphold the timeless ethics of Hippocrates, and our students learn the mathematics of Euclid and Pythagoras. Our law schools use the Socratic Method, and the structures of ancient Greece have inspired many of our most cherished buildings and monuments. Greek Americans have also shaped our Nation as leaders in every sector of American life, and their community has strengthened the fabric of our country with its vibrant culture and unique traditions.

Above all, we were blessed to inherit the Hellenic ideal of democracy, which lives on today in Greece and America, and reinforces the enduring bonds between our two nations.

NOW, THEREFORE, I, BARACK OBAMA, President of the United States of America, by virtue of the authority vested in me by the Constitution and the laws of the United States, do hereby proclaim March 25, 2010, as “Greek Independence Day: A National Day of Celebration of Greek and American Democracy.” I call upon all the people of the United States to observe this day with appropriate ceremonies and activities.

IN WITNESS WHEREOF, I have hereunto set my hand this twenty-fourth day of March, in the year of our Lord two thousand ten, and of the Independence of the United States of America the two hundred and thirty-fourth.

[FR Doc. 2010-7240

Filed 3-29-10; 8:45 am]

Billing code 3195-W0-P